DEPARTMENT OF JUSTICE

[OMB Number 1121-0111]

Agency Information Collection Activities: Proposed eCollection eComments Requested; Revision of a Currently Approved Collection; Comments Requested: National Crime Victimization Survey (NCVS)

AGENCY: Bureau of Justice Statistics, Department of Justice.

ACTION: 30-day notice.

SUMMARY: The Department of Justice (DOJ), Office of Justice Programs, Bureau of Justice Statistics, will be submitting a request to the Office of Management and Budget (OMB) for review and approval of a revision to the National Crime Victimization Survey information collection in accordance with the Paperwork Reduction Act of 1995. The proposed information collection, which is currently under OMB review, was previously published in the Federal Register on Monday, March 19, 2018, allowing a 30-day comment period. The requested revision impacts the minimum age at which respondents will be administered questions on their sexual orientation and gender identity, raising the minimum age from 16 to 18. This revision, which will be implemented within 6 months of OMB approval, will not impact the burden hours associated with the previous 30-day request.

DATES: Comments are encouraged and will be accepted for 30 days until May 11, 2018.

FOR FURTHER INFORMATION CONTACT:

If you have additional comments especially on the estimated public burden or associated response time, suggestions, or need a copy of the proposed information collection instrument with instructions or additional information, please contact Jennifer Truman, Statistician, Bureau of Justice Statistics, 810 Seventh Street NW, Washington, DC 20531 (email: Jennifer.Truman@ojp.usdoj.gov; telephone: 202-514-5083).

SUPPLEMENTARY INFORMATION: Written comments and suggestions from the public and affected agencies concerning the proposed collection of information are encouraged. Your comments should address one or more of the following four points:

—Evaluate the impact of the change on the functioning of the Bureau of Justice Statistics;

—Evaluate the accuracy of the agency's estimate of the burden of the proposed collection of information, including the validity of the methodology and assumptions used;

—Evaluate whether and, if so, how the quality, utility, and clarity of the information to be collected will be impacted by the change; and

—The burden of the collection of information on those who are to respond, including through the use of appropriate automated, electronic, mechanical, or other technological collection techniques or other forms of information technology, e.g., permitting electronic submission of responses.

Overview of This Information Collection

(1) Type of Information Collection: Revision of a currently approved collection.

(2) The Title of the Form/Collection: National Crime Victimization Survey.

(3) The agency form number, if any, and the applicable component of the Department sponsoring the collection: The form number for the questionnaire impacted by the modification is NCVS-1. The applicable component within the Department of Justice is the Bureau of Justice Statistics, in the Office of Justice Programs.

(4) Affected public who will be asked or required to respond, as well as a brief abstract: The National Crime Victimization Survey (NCVS) collects, analyzes, publishes, and disseminates statistics on criminal victimization and the context of criminal victimization in the U.S. The NCVS is administered to persons 12 years or older living in sampled households located throughout the US.

Since July 2016, self-report data on sexual orientation and gender identity have been collected from all sampled persons age 16 or older. Within six months of OMB approval of this requested change, the single question on sexual orientation and two part question on gender identity (sex at birth and current gender) will no longer be administered to respondents ages 16 and 17. The minimum age for these questions will be raised to 18 due to concerns about the potential sensitivity of these questions for adolescents.

BJS plans to publish information from the NCVS in reports and reference it when responding to queries from the U.S. Congress, Executive Office of the President, the U.S. Supreme Court, state officials, international organizations, researchers, students, the media, and others interested in criminal justice statistics.

(5) An estimate of the total number of respondents and the amount of time estimated for an average respondent to respond: The requested revision will not impact the estimated survey burden or the annual number of respondents. The estimated annual number of respondents is 130,707. It will take the average interviewed respondent an estimated 25 minutes to respond; the average non-interviewed respondent an estimated 7 minutes to respond; the average follow-up interview is estimated at 15 minutes, and the average follow-up for a non-interview is estimated at 1 minute.

(6) An estimate of the total public burden (in hours) associated with the collection: The requested revision will not change the annual burden hours. There are an estimated 120,810 annual burden hours associated with this collection.

If additional information is required contact: Melody Braswell, Department Clearance Officer, United States Department of Justice, Justice Management Division, Policy and Planning Staff, Two Constitution Square, 145 N Street NE, 3E.405A, Washington, DC 20530.

Dated: April 6, 2018.
Melody Braswell,
Department Clearance Officer for PRA, U.S. Department of Justice.

[FR Doc. 2018-07448 Filed 4-10-18; 8:45 am]

BILLING CODE 4410-18-P